DEPARTMENT OF THE TREASURY

Submission for OMB Review; Comment Request

June 17, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before July 23, 2010 to be assured of consideration.

Internal Revenue Service (IRS)

OMB Number: 1545-1529.

Type of Review: Extension without change of a currently approved collection.

Title: Tip Reporting Alternative Commitment (Hairstyling Industry).

Abstract: Information is required by the Internal Revenue Service in its compliance efforts to assist employers and their employees in understanding and complying with section 6053(a), which requires employees to report all their tips monthly to their employers.

Respondents: Private Sector: Businesses or other for-profits.

Estimated Total Burden Hours: 43,073 hours.

OMB Number: 1545-1549.

Type of Review: Extension without change of a currently approved collection.

Title: Tip Reporting Alternative Commitment (TRAC) for Use in the Food and Beverage Industry.

Abstract: Information is required by the Internal Revenue Service in its compliance efforts to assist employers and their employees in understanding and complying with section 6053(a), which requires employees to report all their tips monthly to their employers.

Respondents: Private Sector: Businesses or other for-profits.

Estimated Total Burden Hours: 296,916 hours.

OMB Number: 1545-1714.

Type of Review: Extension without change of a currently approved collection.

Title: Tip Reporting Alternative Commitment (TRAC) for most industries.

Abstract: Information is required by the Internal Revenue Service in its tax compliance efforts to assist employers and their employees in understanding and complying with section 6053(a), which requires employees to report all their tips monthly to their employers.

Respondents: Private Sector: Businesses or other for-profits.

Estimated Total Burden Hours: 4,877 hours.

OMB Number: 1545-1717.

Type of Review: Extension without change of a currently approved collection.

Title: Tip Rate Determination Agreement (TRDA) for Most Industries.

Abstract: Information is required by the Internal Revenue Service in its tax compliance efforts to assist employers and their employees in understanding and complying with section 6053(a), which requires employees to report all their tips monthly to their employers.

Respondents: Private Sector: Businesses or other for-profits.

Estimated Total Burden Hours: 1,897 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-15189 Filed 6-22-10; 8:45 am]

BILLING CODE 4830-01-P